COMMITTEE FOR PURCHASE FROM PEOPLE WHO ARE BLIND OR SEVERELY DISABLED

Procurement List; Proposed Additions

AGENCY: Committee for Purchase From People Who Are Blind or Severely Disabled.

ACTION: Proposed additions to the Procurement List.

SUMMARY: The Committee is proposing to add to the Procurement List products and services to be furnished by nonprofit agencies employing persons who are blind or have other severe disabilities.

Comments Must be Received On or Before: July 13, 2008.

ADDRESSES: Committee for Purchase From People Who Are Blind or Severely Disabled, Jefferson Plaza 2, Suite 10800, 1421 Jefferson Davis Highway, Arlington, Virginia 22202-3259.

FOR FURTHER INFORMATION OR TO SUBMIT COMMENTS CONTACT: Kimberly M. Zeich, Telephone: (703) 603-7740, Fax: (703) 603-0655, or e-mail CMTEFedReg@jwod.gov.

SUPPLEMENTARY INFORMATION: This notice is published pursuant to 41 U.S.C 47(a)(2) and 41 CFR 51-2.3. Its purpose is to provide interested persons an opportunity to submit comments on the proposed actions.

If the Committee approves the proposed additions, the entities of the Federal Government identified in the notice for each product or service will be required to procure the products and services listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the products and services to the Government.

2. If approved, the action will result in authorizing small entities to furnish the products and services to the Government.

3. There are no known regulatory alternatives which would accomplish the objectives of the Javits-Wagner-O'Day Act (41 U.S.C. 46-48c) in connection with the products and services proposed for addition to the Procurement List.

Comments on this certification are invited. Commenters should identify the statement(s) underlying the certification on which they are providing additional information.

End of Certification

The following products and services are proposed for addition to Procurement List for production by the nonprofit agencies listed:

Products

Sponge, Cellulose Heavy Duty Scrubber

NSN: 7920-00-NIB-0466.

NPA: Mississippi Industries for the Blind, Jackson, MS.

Coverage: B-List for the broad Government requirements as specified by the General Services Administration.

Contracting Activity: General Services Administration, Southwest Supply Center, Fort Worth, TX.

Portfolio, Clear Front Report Cover w/Prongs

NSN: 7510-00-NIB-0811—Black with prongs.

NSN: 7510-00-NIB-0812—Light Blue with prongs.

NSN: 7510-00-NIB-0813—Red with prongs.

NSN: 7510-00-NIB-0814—Dark Green with prongs.

NPA: Susquehanna Association for the Blind and Visually Impaired, Lancaster, PA.

Coverage: A-List for the total Government requirements as specified by the General Services Administration.

Dispenser, Tape

NSN: 7520-00-NIB-1882—Package Sealing.

NPA: Cincinnati Association for the Blind, Cincinnati, OH.

Coverage: A-List for the total Government requirements as specified by the General Services Administration.

Stapler, Spring Power

NSN: 7520-00-NIB-1916—20 sheet capacity.

NSN: 7520-00-NIB-1917—65 sheet capacity.

NSN: 7520-00-NIB-1992—15 sheet capacity.

NSN: 7520-00-NIB-1993—25 sheet capacity.

NPA: Winston-Salem Industries for the Blind, Winston-Salem, NC.

Coverage: A-List for the total Government requirements as specified by the General Services Administration.

USB Flash Drive, Flip Style

NSN: 7520-00-NIB-1873—1 GB, no encryption.

NSN: 7520-00-NIB-1874—2 GB, no encryption.

NSN: 7520-00-NIB-1875—4GB, no encryption.

NSN: 7520-00-NIB-1877—1GB, with encryption.

NSN: 7520-00-NIB-1878—2GB, with encryption.

NSN: 7520-00-NIB-1879—4GB, with encryption.

NSN: 7520-00-NIB-1974—8GB, no encryption.

NSN: 7520-00-NIB-1976—8GB, with encryption.

NPA: North Central Sight Services, Inc., Williamsport, PA.

Coverage: A-List for the total Government requirements as specified by the General Services Administration..

Contracting Activity: General Services Administration, Federal Supply Services, Region 2, New York, NY

Services

Service Type/Location: Administrative Support Services, Caribbean National Forest, El Portal Rain Forest Center, Rio Grande, PR.

NPA: The Corporate Source, Inc., New York, NY.

Contracting Activity: U.S. Department of Agriculture, Forest Service Cherokee, National Forests—Tennessee, Cleveland, TN.

Service Type/Location: Base Supply Center, Naval Surface Warfare Center, Crane Division, Crane, IN.

NPA: L.C. Industries For The Blind, Inc., Durham, NC.

Contracting Activity: Fleet and Industrial Supply Center (FISC), Norfolk, VA.

Service Type/Location: Document Destruction, U.S. Army Corps of Engineers (USACE), Albuquerque District, 4101 Jefferson Plaza, NE., Albuquerque, NM.

NPA: Adelante Development Center, Inc., Albuquerque, NM.

Contracting Activity: U.S. Army Corps of Engineers, Albuquerque, NM.

Service Type/Location: Grounds Maintenance, Cape Canaveral Air Force Station, Basewide, Cape Canaveral AFS, FL.

NPA: PRIDE Industries, Roseville, CA.

Contracting Activity: 45 CONS/LGCZ, Patrick AFB, FL.

Service Type/Location(s): Laundry Services, Clement J. Zablocki Veterans Affairs Medical Center, 5000 West National Avenue, Milwaukee, WI;

Laundry Services, North Chicago Veterans Affairs Medical Center, 3001 Green Bay Road, North Chicago, IL.

NPA: Goodwill Industries of Southeastern Wisconsin, Inc., Milwaukee, WI.

Contracting Activity: Department of Veterans Affairs, Great Lakes Network—Contract Service Center, Milwaukee, WI.

Service Type/Location: Mailroom Operations, Fort Knox, Fort Knox, KY.

NPA: Employment Source, Inc., Fayetteville, NC.

Contracting Activity: U.S. Army Armor Center & Fort Knox, Fort Knox, KY.

Service Type/Location: Mailroom Operations, Internal Revenue Service, 880 Front Street, San Diego, CA.

NPA: ServiceSource, Inc., Alexandria, VA (PRIME Contractor).

NPA: Goodwill Industries of Southern California, Los Angeles, CA (Sub-Contractor).

Contracting Activity: U.S. Department of the Treasury, Internal Revenue Service Headquarters, Oxon Hill, MD.

Service Type/Location: Mailroom Operations, United States Coast Guard, Integrated Support Command (ISC), Alameda Mail Center, Alameda, CA.

NPA: Pacific Coast Community Services, Richmond, CA.

Contracting Activity: U.S. Coast Guard—Alameda, Alameda, CA.

Kimberly M. Zeich,
Director, Program Operations.

[FR Doc. E8-13361 Filed 6-13-08; 8:45 am]

BILLING CODE 6353-01-P